DEPARTMENT OF COMMERCE

International Trade Administration

[A-570-084]

Certain Quartz Surface Products From the People's Republic of China: Final Results of the Antidumping Duty Administrative Review; 2018-2020

AGENCY: Enforcement and Compliance, International Trade Administration, Department of Commerce.

SUMMARY: The Department of Commerce (Commerce) finds that all companies subject to this administrative review are part of the China-wide entity because they did not file a separate rate application (SRA) or a separate rate certification (SRC). The period of review is November 20, 2018, through June 30, 2020.

DATES: Applicable August 9, 2021.

FOR FURTHER INFORMATION CONTACT: Benjamin A. Luberda, Enforcement and Compliance, International Trade Administration, U.S. Department of Commerce, 1401 Constitution Avenue NW, Washington, DC 20230; telephone: (202) 482-2185.

SUPPLEMENTARY INFORMATION:

Background

On April 6, 2021, Commerce published the Preliminary Results of this administrative review of the antidumping duty order on certain quartz surface products (quartz surface products) from the People's Republic of China (China) ¹ in the Federal Register and invited parties to comment.² On May 5, 2021, we received a case brief from importers Unique Stone Concepts LLC, Cosmos Granite (West), and Cosmos Granite (South East) (Unique Stone and Cosmos Granite).³ On May 10, 2021, we received a rebuttal brief from the petitioner, Cambria Company LLC.⁴ Commerce addressed comments from both parties in the Issues and Decision Memorandum accompanying this notice.⁵ Commerce conducted this administrative review in accordance with section 751 of the Tariff Act of 1930, as amended (the Act).

¹ See Certain Quartz Surface Products from the People's Republic of China: Antidumping and Countervailing Duty Orders, 84 FR 33053 (July 11, 2019) (Order).

² See Quartz Surface Products from the People's Republic of China: Preliminary Results of the Antidumping Duty Administrative Review and Rescission of Antidumping Duty Administrative Review, in Part; 2019-2020, 86 FR 17772 (April 6, 2021) (Preliminary Results).

³ See Unique Stone and Cosmos Granite's Letter, “Administrative Case Brief,” dated May 5, 202.

⁴ See Petitioner's Letter, “Certain Quartz Surface Products from the People's Republic of China: Petitioners' Rebuttal Brief,” dated May 10, 2021.

⁵ See Memorandum, “Issues and Decision Memorandum for the Final Affirmative Determination in the Administrative Review of Quartz Surface Products from the People's Republic of China,” dated concurrently with, and hereby adapted by, this notice (Issues and Decision Memorandum).

Scope of the Order

The scope of the order covers certain quartz surface products. For a full description of the merchandise covered by the Order, see the Issues and Decision Memorandum.

Analysis of Comments Received

All issues raised in the case and rebuttal briefs filed by parties in the administrative review are addressed in the Issues and Decision Memorandum, which is hereby adopted by this notice. A list of the issues that parties raised and to which we responded in the Issues and Decision Memorandum follows as an appendix to this notice. The Issues and Decision Memorandum is a public document and is on file electronically via Enforcement and Compliance's Antidumping and Countervailing Duty Centralized Electronic Service System (ACCESS). ACCESS is available to registered users at http://access.trade.gov. In addition, a complete version of the Issues and Decision Memorandum can be accessed directly at http://enforcement.trade.gov/frn/.

Changes Since the Preliminary Results

Based on a review of the record and comments received from interested parties regarding our Preliminary Results, we made no changes to the Preliminary Results of this administrative review.

Final Results of Review

We continue to find that no companies subject to this review have demonstrated their eligibility for separate rate status, and, therefore, all companies subject to this review are part of the China-wide entity. Because we are not conducting a review of the China-wide entity, the China-wide entity's entries are not subject to the review, and the rate applicable to the China-wide entity is not subject to change.⁶ The China-wide entity rate remains 326.15 percent.⁷

⁶ See Antidumping Proceedings: Announcement of Change in Department Practice for Respondent Selection in Antidumping Duty Proceedings and Conditional Review of the Nonmarket Economy Entity in NME Antidumping Duty Proceedings, 78 FR 65963, 65970 (November 4, 2013).

⁷ See Order, 84 FR at 33054.

Disclosure

Normally, Commerce discloses the calculations used in its analysis to parties in a review within five days of the date of publication of the notice of final results, in accordance with 19 CFR 351.224(b). However, in this case, there are no calculations on the record to disclose.

Assessment Rates

Commerce shall determine, and U.S. Customs and Border Protection (CBP) shall assess, antidumping duties on all appropriate entries in accordance with section 751(a)(2)(C) of the Act and 19 CFR 351.212(b). Because we determined that all companies under review are not eligible for a separate rate and are part of the China-wide entity, we will instruct CBP to apply an ad valorem assessment of 326.15 percent to all entries of subject merchandise during the POR that were producer and/or exported by the following companies: Dava Industry Co., Ltd.; Deyuan Panmin International Limited; Guangzhou Hercules Quartz Stone Co., Ltd.; Heshan City Nande Stone Co., Ltd.; and Xiamen Deyuan Panmin Trading Co., Ltd.

We intend to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective upon publication of the final results of this review for shipments of the subject merchandise from China entered, or withdrawn from warehouse, for consumption on or after the publication date, as provided by sections 751(a)(2)(C) of the Act: (1) For previously investigated or reviewed Chinese or non-Chinese exporters not listed above that received a separate rate in a prior segment of this proceeding, the cash deposit rate will continue to be the existing exporter-specific rate; (2) for all Chinese exporters of subject merchandise that have not been found to be entitled to a separate rate, the cash deposit rate will be that for the China-wide entity (i.e., 326.15 percent); and (3) for all non-Chinese exporters of subject merchandise which have not received their own rate, the cash deposit rate will be the rate applicable to the Chinese exporter that supplied that non-Chinese exporter. These deposit requirements, when imposed, shall remain in effect until further notice.

Notification to Importers

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

Notification Regarding Administrative Protective Order

This notice also serves as a final reminder to parties subject to administrative protective order (APO) of their responsibility concerning the disposition of proprietary information disclosed under APO in accordance with 19 CFR 351.305(a)(3). Timely written notification of return/destruction of APO materials or conversion to judicial protective order is hereby requested. Failure to comply with the regulations and the terms of an APO is a sanctionable violation.

Notification to Interested Parties

We are issuing and publishing these preliminary results of review in accordance with sections 751(a)(l), 751(a)(2)(B), and 777(i) of the Act.

Dated: August 2, 2021.
Christian Marsh,
Acting Assistant Secretary, Enforcement and Compliance.

Appendix

List of Topics Discussed in the Issues and Decision Memorandum

I. Summary

II. Background

III. Scope of the Order

IV. Discussion of the Issues

Comment 1: Provisional Measures Cap

Comment 2: Assessment Rate for Importers

V. Recommendation

[FR Doc. 2021-16911 Filed 8-6-21; 8:45 am]

BILLING CODE 3510-DS-P